ENVIRONMENTAL PROTECTION AGENCY

40 CFR Part 180

[EPA-HQ-OPP-2017-0418; FRL-9970-24]

RIN 2070-ZA16

Fenoxaprop-ethyl, Flufenpyr-ethyl, Imazapyr, Maleic hydrazide, Pyrazon, Quinclorac, Triflumizole, et al.; Proposed Tolerance and Tolerance Exemption Actions

Correction

In proposed rule document 2019-00787, appearing on pages 1691 through 1697 in the issue of Tuesday, February 5, 2019, make the following correction:

On page 1691, in the first column, under the DATES heading, “February 5, 2019” should read “April 8, 2019”.

[FR Doc. C1-2019-00787 Filed 2-27-19; 8:45 am]

BILLING CODE 1301-00-D